DEPARTMENT OF TRANSPORTATION

Federal Transit Administration

Notice To Rescind Notice of Intent To Prepare an Environmental Impact Statement for the Metro Gold Line Foothill Extension, Azusa to Montclair in Los Angeles and San Bernardino Counties, CA

AGENCY: Federal Transit Administration, DOT.

ACTION: Rescind Notice of Intent to Prepare an Environmental Impact Statement.

SUMMARY: The Federal Transit Administration (FTA) and the Metro Gold Line Foothill Extension Construction Authority (the Construction Authority) are issuing this notice to advise the public that the Notice of Intent (NOI) to prepare an Environmental Impact Statement (EIS) for proposed improvements in the Metro Gold Line Foothill Extension Transit Corridor from Azusa to Montclair is being rescinded.

FOR FURTHER INFORMATION CONTACT: Mr. Ray Tellis, Team Leader, Los Angeles Metropolitan Office, Federal Transit Administration, 888 South Figueroa Street, Suite 1850, Los Angeles, CA 90017, phone (213) 202-3950, e-mail ray.tellis@dot.gov.

SUPPLEMENTARY INFORMATION: The FTA, in cooperation with the Construction Authority, published a NOI in the Federal Register on December 27, 2010 (Volume 75, Number 247) to prepare an EIS for the Metro Gold Line Foothill Extension from Azusa to Montclair Project per 23 U.S.C. 139. The Build Alternative is a Light Rail Transit (LRT) system that would begin at the current terminus of the Metro Gold Line at the Azusa Citrus Station continuing east to Montclair. Stations plus associated parking and traction power substations were also included in the LRT Alternative. The Construction Authority indicated that in order to preserve project momentum, the Construction Authority has decided not to engage in the environmental process under the National Environmental Policy Act. Therefore, the FTA has determined that there are no Federal actions to be undertaken by the FTA for this project at this time. The NOI will be rescinded accordingly.

Comments and questions concerning the proposed action should be directed to FTA at the address provided above.

Issued on: October 13, 2011.
Leslie T. Rogers,
Regional Administrator, Federal Transit Administration, Region IX.

[FR Doc. 2011-26872 Filed 10-17-11; 8:45 am]

BILLING CODE P